ENVIRONMENTAL PROTECTION AGENCY

[EPA-HQ-OPP-2011-0173; FRL-8875-8]

Cryolite Registration Review Docket; Extension of Comment Period

AGENCY: Environmental Protection Agency (EPA).

ACTION: Notice; extension of comment period.

SUMMARY: EPA issued a notice in the Federal Register of March 30, 2011 concerning the availability of multiple registration review dockets for public comment, including cryolite. This document extends the comment period for the cryolite registration review docket only, which was due to expire on May 31, 2011, until July 5, 2011.

DATES: Comments, identified by docket identification (ID) number EPA-HQ-OPP-2011-0173, must be received on or before July 5, 2011.

ADDRESSES: Follow the detailed instructions as provided under ADDRESSES in the Federal Register document of March 30, 2011.

FOR FURTHER INFORMATION CONTACT: Eric Miederhoff, Pesticide Re-evaluation Division (7508P), Office of Pesticide Programs, Environmental Protection Agency, 1200 Pennsylvania Ave., NW., Washington, DC 20460-0001; telephone number: (703) 347-8028; e-mail address: miederhoff.eric@epa.gov.

SUPPLEMENTARY INFORMATION: This document extends the public comment period established in the Federal Register of March 30, 2011 (76 FR 17646) (FRL-8868-9). In that document, the Agency announced the availability of multiple registration review dockets for public comment, including cryolite. EPA is hereby extending the comment period for the cryolite registration review docket only until July 5, 2011.

To submit comments, or access the docket, please follow the detailed instructions as provided under ADDRESSES in the March 30, 2011 Federal Register document. If you have questions, consult the person listed under FOR FURTHER INFORMATION CONTACT.

List of Subjects

Environmental protection, Cryolite, Pesticides and pests.

Dated: May 25, 2011.
Peter Caulkins,
Acting Director, Pesticide Re-evaluation Division, Office of Pesticide Programs.

[FR Doc. 2011-13584 Filed 5-26-11; 4:15 pm]

BILLING CODE 6560-50-P